COMMODITY FUTURES TRADING COMMISSION

Agency Information Collection Activities Under OMB Review

AGENCY: Commodity Futures Trading Commission.

ACTION: Notice.

SUMMARY: In compliance with the Paperwork Reduction Act of 1995 (PRA), this notice announces that the Information Collection Request (ICR) abstracted below has been forwarded to the Office of Management and Budget (OMB) for review and comment. The ICR describes the nature of the information collection and its expected costs and burden.

DATES: Comments must be submitted on or before May 30, 2018.

ADDRESSES: Comments regarding the burden estimate or any other aspect of the information collection, including suggestions for reducing the burden, may be submitted directly to the Office of Information and Regulatory Affairs (OIRA) in OMB within 30 days of this notice's publication by either of the following methods. Please identify the comments by “OMB Control No. 3038-0095.”

• By email addressed to: OIRAsubmissions@omb.eop.gov or

• By mail addressed to: The Office of Information and Regulatory Affairs, Office of Management and Budget, Attention Desk Officer for the Commodity Futures Trading Commission, 725 17th Street NW, Washington, DC 20503.

A copy of all comments submitted to OIRA should be sent to the Commodity Futures Trading Commission (the “Commission”) by either of the following methods. The copies should refer to “OMB Control No. 3038-0095.”

• By mail addressed to: Christopher Kirkpatrick, Secretary of the Commission, Commodity Futures Trading Commission, Three Lafayette Centre, 1155 21st Street NW, Washington, DC 20581;

• By Hand Delivery/Courier to the same address; or

• Through the Commission's website at http://comments.cftc.gov. Please follow the instructions for submitting comments through the website.

A copy of the supporting statement for the collection of information discussed herein may be obtained by visiting http://RegInfo.gov.

All comments must be submitted in English, or if not, accompanied by an English translation. Comments will be posted as received to http://www.cftc.gov. You should submit only information that you wish to make available publicly. If you wish the Commission to consider information that you believe is exempt from disclosure under the Freedom of Information Act, a petition for confidential treatment of the exempt information may be submitted according to the procedures established in § 145.9 of the Commission's regulations.¹ The Commission reserves the right, but shall have no obligation, to review, pre-screen, filter, redact, refuse or remove any or all of your submission from http://www.cftc.gov that it may deem to be inappropriate for publication, such as obscene language. All submissions that have been redacted or removed that contain comments on the merits of the ICR will be retained in the public comment file and will be considered as required under the Administrative Procedure Act and other applicable laws, and may be accessible under the Freedom of Information Act.

¹ 17 CFR 145.9.

FOR FURTHER INFORMATION CONTACT: Owen J. Kopon, Special Counsel, Division of Market Oversight, Commodity Futures Trading Commission, (202) 418-5360; email: okopon@cftc.gov, and refer to OMB Control No. 3038-0095.

SUPPLEMENTARY INFORMATION:

Title: Large Trader Reporting for Physical Commodity Swaps (OMB Control No. 3038-0095). This is a request for extension and revision of a currently approved information collection.

Abstract: Part 20 of the Commission's regulations (“Reporting Rules”) requires clearing organizations and any persons that are “reporting entities” to file swaps position data with the Commission. The Reporting Rules collect clearing member reports from clearing organizations. The Reporting Rules also require position reports from reporting entities for principal and counterparty positions in cleared and uncleared physical commodity swaps. Reporting entities are those persons that are either “clearing members” or “swap dealers” that are otherwise not clearing members. For purposes of part 20, reporting parties are required to submit data on positions on a futures equivalent basis so as to allow the Commission to assess a trader's market impact across differently structured but linked derivatives instruments and markets. This renewal updates the total requested burden based on available reported data.

An agency may not conduct or sponsor, and a person is not required to respond to, a collection of information unless it displays a currently valid OMB control number. On February 9, 2018, the Commission published in the Federal Register notice of the proposed extension of this information collection and provided 60 days for public comment on the proposed extension, 83 FR 5761 (“60-Day Notice”). The Commission did not receive any comments on the 60-Day Notice.

Burden Statement: The respondent burden for this collection is estimated to be as follows: ²

² The burden estimates that appeared in the 60-day Notice contained a calculation error that resulted in double counting burden hours, 83 FR 5761 (Feb. 9, 2018). This calculation error has been corrected and the following adjustments to the previous burden estimates have been made, as indicated above: The Estimated Average Annual Burden Hours per Respondent have been corrected from 1.55 to 1.57; the Estimated Total Annual Number of Responses has been adjusted from 56,088 to 38,408; and the Estimated Total Annual Burden Hours have been adjusted from 86,902 to 60,382.

Estimated Number of Respondents: 4,824.

Estimated Average Annual Burden Hours per Respondent: 1.57.

Estimated Total Annual Number of Responses: 38,408.

Estimated Total Annual Burden Hours: 60,382.

Type of Respondents: Respondents may include clearing organizations, persons that are clearing members or swap dealers that are reporting entities, and large swap counterparties.

(Authority: 44 U.S.C. 3501 et seq.)

Dated: April 25, 2018.
Robert Sidman,
Deputy Secretary of the Commission.

[FR Doc. 2018-09064 Filed 4-27-18; 8:45 am]

BILLING CODE 6351-01-P